DEPARTMENT OF THE INTERIOR

Fish and Wildlife Service

[FWS-R8-NWRS-2023-N050; FXRS12610800000-234-FF08R04000]

San Luis and Merced National Wildlife Refuges and Grasslands Wildlife Management Area, CA; Draft Comprehensive Conservation Plan/Environmental Assessment

AGENCY: Fish and Wildlife Service, Interior.

ACTION: Notice of availability; request for comments.

SUMMARY: We, the Fish and Wildlife Service (Service), announce the availability of a draft comprehensive conservation plan (CCP) and draft environmental assessment (EA) for San Luis and Merced National Wildlife Refuges and the Grasslands Wildlife Management Area (collectively, the refuges) for review and comment. The draft CCP/EA, prepared under the National Wildlife Refuge Improvement Act of 1997, and in accordance with the National Environmental Policy Act of 1969, describes how the Service proposes to manage the refuges for the next 15 years. Draft compatibility determinations for multiple existing and proposed uses, a revised hunt plan, and a visitor services plan are also available for review and public comment. We invite comment from the public and local, State, Tribal, and Federal agencies.

DATES: To ensure consideration, we must receive your written comments by October 26, 2023.

ADDRESSES: Accessing Documents: You may obtain electronic copies of the draft CCP/EA, the revised hunt plan, the visitor services plan, and the draft compatibility determinations on San Luis Refuge's website, at https://www.fws.gov/refuge/san-luis/what-we-do. Hard copies of the draft CCP/EA may be viewed in person during regular business hours, 8 a.m. to 4:30 p.m., Monday through Friday, at San Luis NWR Complex Headquarters, 7376 S Wolfsen Road, Los Banos, CA 93635.

Submitting Comments: Please submit comments by only one of the following methods.

• Email: Address comments to fw8plancomments@fws.gov. Include “San Luis CCP” in the subject line of the message.

• In-Person Drop off: You may drop off comments during regular business hours at San Luis NWR Complex Headquarters (address above).

FOR FURTHER INFORMATION CONTACT: John Kurtz, Conservation Planner, via email at john_kurtz@fws.gov, or Chris Harper, San Luis NWRC Project Leader, via email at chris_harper@fws.gov, or by phone at (209) 826-3508.

SUPPLEMENTARY INFORMATION: The National Wildlife Refuge System Improvement Act of 1997 (16 U.S.C. 668dd-668ee), which amended the National Wildlife Refuge System Administration Act of 1966, requires the Service to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Improvement Act.

Introduction

With this notice, we continue the CCP process for San Luis National Wildlife Refuge, Merced National Wildlife Refuge, and Grasslands Wildlife Management Area (collectively, “the refuges”), which we began by publishing a notice of intent in the Federal Register on September 8, 2008 (73 FR 52063). We hosted three public scoping meetings, two in Los Banos on September 24, 2008, and one in Merced, on September 25, 2008. In addition to the Federal Register notice of intent, our outreach included two planning updates, two initial public scoping meetings, and a CCP web page. The scoping comment period ended on October 23, 2008. Over 100 comments were received at the meetings, via email, and by postal mail. For more about the initial process and the history of the Refuge, see the September 8, 2008, notice.

Background

The San Luis and Merced National Wildlife Refuges (NWRs) and Grasslands Wildlife Management Area (WMA) are in Merced County, California, adjacent to the communities of Los Banos and Merced. They are situated within the San Joaquin River watershed in the San Joaquin Valley. Along with San Joaquin River National Wildlife Refuge, they make up the San Luis National Wildlife Refuge Complex; however, San Joaquin River National Wildlife Refuge is covered under a separate CCP (2006).

Collectively, San Luis, Merced, and Grasslands contain one of the largest remaining contiguous freshwater wetlands remaining in California, which provides important winter habitat for millions of migratory birds, as well as assemblages of other native wetland- and grassland-dependent wildlife.

The Merced NWR was established in 1951 and consists of 10,262 acres (ac). The San Luis NWR was established in 1967 and consists of 26,878 ac. The Grasslands WMA was established in 1979 and contains more than 190 privately owned parcels under Service conservation easements, totaling approximately 90,000 ac, within an approved acquisition boundary of 230,000 ac. All three areas are part of the Grasslands Ecological Area, which is a 160,000-ac mosaic of Central Valley floor habitats located primarily within Merced County between I-5 and I-99 in the northern San Joaquin Valley, west of a line between Modesto and Fresno.

Additional Information

The draft CCP/EA, revised hunt plan, visitor services plan and draft compatibility determinations can be found at https://www.fws.gov/refuge/san-luis/what-we-do. The draft CCP includes detailed information about the planning process, history of the refuges, management issues, ecological context, and management opportunities.

National Environmental Policy Act Compliance

The draft EA was prepared in accordance with the National Environmental Policy Act (NEPA; 43 U.S.C. 4321 et seq.). The draft EA identifies and evaluates three alternatives for managing the refuges for the next 15 years. The alternative that appears to best meet the refuges' purposes is identified as the proposed action. The proposed action is identified based on the analysis presented in the draft CCP/EA, which may be modified following the completion of the public comment period, based on comments received from other agencies, Tribal governments, nongovernmental organizations, or individuals.

Under Alternative A (no action alternative), the current management actions, including habitat management, wildlife management, wildlife-oriented recreation opportunities, and environmental education, would be continued on Merced and San Luis NWRs. Habitat and wildlife management activities would include habitat management, with a focus on wetlands for migratory bird use, habitat restoration projects, vernal pool management, grassland management, invasive plant management, wildlife and habitat surveys, and ungulate management. We would continue to offer a wide variety of wildlife-oriented recreation opportunities to the public, including several auto-tour routes; numerous nature trails, and a large recreational waterfowl hunt program, as well as environmental education activities for schools. Existing restoration and management plans would continue to be implemented. For the remaining available acquisition authority in the Grasslands WMA, the Service would seek to acquire additional wildlife conservation easements from willing sellers within the approved acquisition boundary.

Alternative B, which has a wetland wildlife focus, also includes those actions in Alternative A. In addition to those activities occurring in Alternative A, we would seek 28,000 ac-feet of additional water to manage existing and additional wetlands on San Luis and Merced NWRs. The Service would also restore 600 ac of seasonal wetlands and increase the value of these habitats to migratory birds. Under Alternative B, we would also restore 100 ac of riparian woodlands and 1,700 ac of vernal pool habitat on the Snobird unit of the Merced NWR.

Under Alternative C (proposed action), the Service would manage with a biodiversity focus that would include both wetland and upland habitats for wildlife. We would manage wetland-dependent wildlife and wetland habitats on San Luis and Merced NWRs essentially the same as under Alternative B, except moist soil wetlands (the most common wetland habitat at the Complex) would continue to be managed under an 8-year disturbance cycle. Grassland management activities would increase at the San Luis and Merced NWRs, to focus on providing nesting habitat for migratory birds and other wildlife and suitable grazing/foraging habitat for migratory birds, including geese, cranes and curlew, and on restoring native plants and natural processes to grasslands. Inventory, monitoring, and research programs of natural resources would be expanded. We would shift some of the wildlife easement acquisition authority to fee-title acquisition authority within the Grasslands Wildlife Management Area acquisition boundary to allow greater flexibility for conserving important wildlife habitat (i.e., wetlands, vernal pools). We would expand wildlife observation opportunities by adding an additional riparian focused nature trail, a children's interactive nature exploration area, and an additional boardwalk section. We would also host visitor workshops on wildlife identification/observation and photography. Interpretation and environmental education opportunities would also be improved and expanded.

Public Meetings

The locations, dates, and times of public meetings will be listed in a public communications release distributed to the project mailing list and posted on the refuge website at https://www.fws.gov/refuge/san-luis.

Review and Comment

At the end of the review and comment period for the draft CCP/EA, comments will be analyzed by the Service and addressed in the final CCP/EA. Before including your address, phone number, email address, or other personal identifying information in your comment, you should be aware that your entire comment—including your personal identifying information—may be made publicly available at any time. While you can ask us in your comment to withhold your personal identifying information from public view, we cannot guarantee that we will be able to do so.

Kaylee Allen,
Acting Regional Director, Pacific Southwest Region, Sacramento, California.

[FR Doc. 2023-19485 Filed 9-8-23; 8:45 am]

BILLING CODE 4333-15-P